DEPARTMENT OF ENERGY

Federal Energy Regulatory Commission

[Project No. 11730-029]

Black River Limited Partnership; Notice of Intent to Prepare an Environmental Assessment

On October 4, 2024,¹ Black River Limited Partnership filed an application Non-capacity Amendment of License for the Alverno Hydroelectric Project No. 11730. The project is located on the Black River in Cheboygan County, Michigan, and does not occupy federal lands.

¹ The October 4, 2024 filing supersedes filing supersedes December 7, 2021, March 24, 2023, August 4, 2023, and January 19, 2024 filings.

The licensee proposes to amend the operating requirements of the project pursuant to Article 404 of the license to be consistent with an amended water quality certification issued by the Michigan Department of Environment, Great Lakes, and Energy on January 4, 2023, and to address an ongoing compliance proceeding at the project. The licensee proposes to operate the project in run-of-river mode with a target reservoir operating level of 611.8+/− 0.5 feet NGVD. The licensee filed a revised Gaging and Flow Compliance Plan to accommodate the proposed changes to Article 404 and requests to revise the language of Article 405 of the license consistent with the revisions to Article 404 and the revised plan. There are no ground-disturbing activities associated with the licensee's proposal.

This notice identifies Commission staff's intention to prepare an environmental assessment (EA) under the National Environmental Policy Act (42 U.S.C. 4321 et seq) for the project.² Commission staff plans to issue an EA by January 30, 2026. Revisions to the schedule may be made as appropriate. The EA will be issued for a 30-day comment period. All comments filed on the EA will be reviewed by staff and considered in the Commission's final decision on the proceeding.

² The unique identification number for documents relating to this environmental review is EAXX-019-20-000-1750060234.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Jeremy Jessup at (202) 502-6779 or Jeremy.Jessup@ferc.gov.

Dated: July 15, 2025.
Debbie-Anne A. Reese,
Secretary.

[FR Doc. 2025-13537 Filed 7-17-25; 8:45 am]

BILLING CODE 6717-01-P